ENVIRONMENTAL PROTECTION AGENCY

[FRL-7393-8]

EPA Science Advisory Board; Emergency Notification of Public Advisory Committee Teleconference Meeting; Human Health Research Strategy Review Panel

Pursuant to the Federal Advisory Committee Act, Public Law 92-463, notice is hereby given of a teleconference of the Human Health Research Strategy Review Panel (HHRS Review Panel) of the U.S. Environmental Protection Agency's (EPA) Science Advisory Board (SAB). The HHRS Review Panel will meet on October 23, 2002 via teleconference from 3 p.m. to 4 p.m. Eastern Time. This teleconference meeting will be hosted out of Conference Room 6013, USEPA, Ariel Rios Building North, 1200 Pennsylvania Avenue, NW., Washington, DC 20004. The meeting is open to the public, but, due to limited space, seating will be on a first-come basis. The public may also attend via telephone, however, lines may be limited. For further information concerning the meeting or how to obtain the Teleconference phone number, please contact the individuals listed below.

The background for this review and the charge to the panel were published in 67 FR 41718-41721 on June 19, 2002. The notice also included a call for nominations for members of the panel in certain technical expertise areas needed to address the charge and described the process to be used in forming the panel.

The draft document that is the subject of this SAB review, Human Health Research Strategy, May 2002, is available on the SAB Web site (see below). Any questions on the strategy should be directed to the program contact listed below.

Purpose of the Meeting—The purpose of this public teleconference meeting is for the HHRS Review Panel to: (a) Discuss the charge and the adequacy of the review materials provided to the HHRS Review Panel; (b) clarify any questions and issues relating to the charge and the review materials; (c) discuss specific charge assignments to the HHRS Review Panelists; and (d) clarify specific points of interest raised by the Panelists in preparation for the face-to-face meeting planned for November 2002.

FOR FURTHER INFORMATION CONTACT: To enquire about public participation in the meeting identified above please contact Sue Shallal, Ph.D., Designated Federal Officer, HHRS Review Panel, USEPA Science Advisory Board (1400A), Suite 6450DD, 1200 Pennsylvania Avenue, NW., Washington, DC 20460; telephone/voice mail at (202) 564-4566; fax at (202) 501-0323; or via e-mail at shallal.suhair@epa.gov. Brief oral comments will be taken only on the topics given above under Purpose of the Meeting [a formal public comment period will be advertised for the planned November face-to-face meeting]. Requests for oral comments must be in writing (e-mail, fax or mail) and received by Dr. Shallal no later than noon Eastern Time on October 18th. The SAB will have a brief period (no more than 10 minutes total) available during the teleconference meeting which will be divided among the speakers who register. Registration is on a first come basis. Those wishing to speak but who are unable to register in time may provide their comments in writing.

Members of the public desiring additional information about the meeting location or the call-in number for the teleconference, must contact Ms. Zisa Lubarov-Walton, Management Assistant, EPA Science Advisory Board (1400A), Suite 6450FF, U.S. EPA, 1200 Pennsylvania Avenue, NW., Washington, DC 20460; telephone/voice mail at (202) 564-4537; fax at (202) 501-0582; or via e-mail at lubarov-walton.zisa@epa.gov. A copy of the draft agenda for the meeting will be posted on the SAB Web site http://www.epa.gov/sab (under the AGENDAS subheading) approximately a week before the meeting.

Availability of Review Material—There is one primary document that is the subject of the review. This draft review document is available electronically at the following site http://www.epa.gov/sab/pdf/hhrs.pdf. For questions and information pertaining to the review document, please contact Dr. Hugh Tilson, (Mail Code B30502), U.S. Environmental Protection Agency, National Health and Environmental Effects Research Laboratory, Research Triangle Park, NC 27711; tel. (919) 541-4607, Fax (919) 685-3252, e-tilson.hugh@epa.gov.

General Information on Providing Oral or Written Comments at SAB Meetings

It is the policy of the EPA Science Advisory Board to accept written public comments of any length, and to accommodate oral public comments whenever possible. The EPA Science Advisory Board expects that public statements presented at its meetings will not be repetitive of previously submitted oral or written statements. Oral Comments: In general, each individual or group requesting an oral presentation at a face-to-face meeting will be limited to a total time of ten minutes (unless otherwise indicated above). For teleconference meetings, opportunities for oral comment will usually be limited to no more than three minutes per speaker and no more than fifteen minutes total (unless otherwise indicated above). Deadlines for getting on the public speaker list for a meeting are given above. Speakers should bring at least 25 copies of their comments and presentation slides for distribution to the reviewers and public at the meeting. Written Comments: Although the SAB accepts written comments until the date of the meeting (unless otherwise stated), written comments should be received in the SAB Staff Office at least one week prior to the meeting date so that the comments may be made available to the review panel for their consideration. Comments should be supplied to the appropriate DFO at the address/contact information noted above in the following formats: One hard copy with original signature, and one electronic copy via e-mail (acceptable file format: Adobe Acrobat, WordPerfect, Word, or Rich Text files (in IBM-PC/Windows 95/98 format). Those providing written comments and who attend the meeting are also asked to bring 25 copies of their comments for public distribution.

Meeting Access—Individuals requiring special accommodation at this meeting, including wheelchair access to the conference room, should contact Dr. Shallal at least five business days prior to the meeting so that appropriate arrangements can be made.

General Information—Additional information concerning the EPA Science Advisory Board, its structure, function, and composition, may be found on the SAB Web site http://www.epa.gov/sab and in the EPA Science Advisory Board FY2001 Annual Staff Report which is available from the SAB Publications Staff at (202) 564-4533 or via fax at (202) 501-0256.

Dated: October 8, 2002.
A. Robert Flaak,
Acting Deputy Director, EPA Science Advisory Board Staff Office.

[FR Doc. 02-26170 Filed 10-10-02; 8:45 am]

BILLING CODE 6560-50-P